DEPARTMENT OF HEALTH AND HUMAN SERVICES

Office of the National Coordinator for Health Information Technology; HIT Standards Committee; Notice and Publication of Committee Recommendations to the National Coordinator for Health Information Technology

AGENCY: Office of the National Coordinator for Health Information Technology, HHS.

ACTION: Notice of committee recommendations and invitation for public input.

SUMMARY: This notice publishes recommendations made by the HIT Standards Committee (Committee) at its public meeting on April 28, 2010, and invites public input on the recommendations at the Committee's next meeting on June 30, 2010. The Committee is a federal advisory committee to the Office of the National Coordinator for Health Information Technology (ONC).

Name of Committee: HIT Standards Committee.

General Function of the Committee: To provide recommendations to the National Coordinator on standards, implementation specifications, and certification criteria for the electronic exchange and use of health information for purposes of adoption, consistent with the implementation of the Federal Health IT Strategic Plan, and in accordance with policies developed by the HIT Policy Committee. Sections 3003(b)(4) and (e) of the Health Information Technology for Economic and Clinical Health (HITECH) Act requires ONC to publish the Committee's recommendations to the National Coordinator in the Federal Register and on ONC's Web site.

Contact Person: Judith Sparrow, Office of the National Coordinator, HHS, 330 C Street, SW., Washington, DC 20201, 202-205-4528, Fax: 202-690-6079, e-mail: judy.sparrow@hhs.gov.

Recommendations: During the April 28, 2010 meeting, the Committee's recommendations focused on standards for governance, funding and infrastructure of controlled vocabularies, value sets and vocabulary subsets to be used primarily to further interoperability between providers and the systems they deploy as defined by the various stages of Meaningful Use Objectives. The recommendations may be found at http://healthit.hhs.gov/standardscommittee.

Procedure: Individuals wishing to make comments on the Committee's April 28, 2010, recommendations may present oral comments at the Committee's next meeting on June 30, 2010, from approximately 1 p.m. to 2 p.m., e.t., at the Marriott Hotel Washington, 1221 22nd Street, NW., Washington, DC 20037. Comments will be limited to two (2) minutes per person. A separate notice announcing this meeting has been published in the Federal Register and provides additional information.

Authority: Sections 3003(b)(4) and (e) of Health Information Technology for Economic and Clinical Health (HITECH) Act, Title XIII of Division A of the American Recovery and Reinvestment Act of 2009 (ARRA), Pub. L. No. 111-5.

Dated: June 2, 2010.
Judith Sparrow,
Office of Programs and Coordination, Office of the National Coordinator for Health Information Technology.

[FR Doc. 2010-13683 Filed 6-7-10; 8:45 am]

BILLING CODE 4150-45-P